DEPARTMENT OF THE INTERIOR

Bureau of Land Management

[WY-010-2822JL]

Emergency Closure to Motorized Vehicle Use on Public Lands Administered by the Bureau of Land Management (BLM), Worland Field Office, Within the Enos Complex Fire area, Hot Springs and Park Counties, Wyoming

AGENCY: Bureau of Land Management, Interior.

ACTION: Emergency closure.

SUMMARY: The Bureau of Land Management (BLM), Worland Field Office, hereby gives notice that, effective immediately, all tracks and other areas disturbed by fire-fighting equipment in the Enos Complex Fire area are closed to motorized vehicle use. The purpose for this emergency closure is to facilitate reclamation of the public lands disturbed or damaged during suppression of the 13,664-acre Enos Complex Fire.

An Emergency Fire Rehabilitation Plan has been prepared and approved for this burned area. Some of the rehabilitation actions include reseeding areas with native vegetation and constructing water bars on fire lines. Areas disturbed by fire-fighting equipment will be signed as “Closed to Motor Vehicle Use.” Motorized vehicle travel on these disturbed areas and other areas affected by the fire could increase soil erosion, impair wildlife habitat, damage cultural resources, and jeopardize the rehabilitation efforts.

This emergency closure includes some roads and trails which existed before the fire.

EFFECTIVE DATES: This closure to motorized vehicle use is effective immediately and will remain in effect until modified or rescinded by the authorized officer.

FOR FURTHER INFORMATION CONTACT: Darrell Barnes, Field Manager, Worland Field Office, P.O. Box 119, 101 South 23th Street, Worland, Wyoming 82401-0119. Telephone (307)347-5100.

SUPPLEMENTARY INFORMATION: The Enos Creek Complex Fire began with lightning strikes on July 27, 2000. The fires encompassed 13,664 acres of federal, state, and private lands. The purpose of this emergency closure is to eliminate unnecessary vehicle use while providing a minimum amount of access into the area for recreation. This order will help facilitate the area's rehabilitation from the fire. Vehicles traveling off-road in a burned area may damage reemerging plants, increase erosion, and spread noxious weeds.

The management of off-road vehicles is addressed in the Grass Creek Resource Management Plan (BLM, Sept. 1998).

The Enos Creek area is an important wildlife habitat and hunting area. The recent fire burned more then 90 percent of the area, leaving very little in the way of security cover for wildlife. Keeping vehicle traffic away from some areas for one or two growing seasons will help in the rehabilitation. There is also a need to allow some vehicle access so hunters can harvest big game animals. The Worland Field Office specialists will analyze the effects of this closure in the summer of 2001 and extend, modify, or rescind this order as deemed necessary by the authorized officer.

The following described BLM-administered lands are included in this Emergency Road Closure.

6th Principal Meridian

T. 46 N., R. 99 W., sec. 15, 17, and 18;

T. 45 N., R. 100 W., sec. 1, 2, 3 ,4, 5, 6, and 21;

T. 46 N., R, 100 W., sec. 13 through 29, 33, 34, and 35;

T. 47 N., R. 100 W., sec. 27, 28, 33, 24, and 35.

Authority for Off-Road Vehicle Management, closure and restriction orders is provided under 43 CFR subpart 8341.2 (a and b), and 8364.1. Violations of this management plan are punishable by a fine not to exceed $1,000 and (or) imprisonment not to exceed 12 months.

Dated: October 13, 2000.
Darrell Barnes,
Worland Field Manager.

[FR Doc. 00-29396 Filed 11-15-00; 8:45 am]

BILLING CODE 4310-22-P